FEDERAL COMMUNICATIONS COMMISSION

47 CFR Part 73

[DA 04-971; MB Docket No. 02-73; RM-10356, 10551, 10553, and 10554]

Radio Broadcasting Services; Bagdad, AZ; Dewey-Humboldt, AZ; First Mesa, AZ; Flagstaff, AZ; Globe, AZ; Grand Canyon Village, AZ; and Safford, AZ

AGENCY: Federal Communications Commission.

ACTION: Final rule.

SUMMARY: The Audio Division, at the request of 3 Point Media-Arizona, LLC (formerly Arizona Radio Partners, LLC), licensee of FM Station KJNA, Flagstaff, Arizona, and NPR Phoenix, LLC, makes the following changes to the FM Table of Allotments: The Division deletes Channel 248C at Flagstaff, Arizona, allots Channel 248C at Dewey-Humboldt, Arizona, Channel 247C at First Mesa, Arizona, and Channel 273C1 at Grand Canyon Village, Arizona, substitutes Channel 269C3 for a vacant allotment of Channel 246C3 at Bagdad, Arizona, substitutes Channel 231C2 for Channel 247C2 at Globe, Arizona, and substitutes Channel 232C2 for Channel 231C1 at Safford, Arizona. Channel 247C can be allotted to First Mesa, Arizona, consistent with the engineering requirements of the Commission's Rules, at coordinates of 35-41-09 NL and 110-21-43 WL, with a site restriction of 16.8 kilometers (10.5 miles) south of First Mesa. Channel 273C1 can be allotted to Grand Canyon Village, Arizona, consistent with the engineering requirements of the Commission's Rules, at city reference coordinates of 36-02-47 NL and 112-09-12 WL, with no site restriction required. Channel 248C can be allotted to Dewey-Humboldt, Arizona, consistent with the engineering requirements of the Commission's Rules, at coordinates of 34-14-42 NL and 112-21-27 WL, with a site restriction of 33.3 kilometers (20.7 miles) south of Dewey-Humboldt. Channel 269C3 can be substituted for Channel 246C at Bagdad, Arizona, consistent with the engineering requirements of the Commission's Rules, at coordinates of 34-36-11 NL and 113-12-04 WL, with a site restriction of 2.5 kilometers (1.5 miles) north of Bagdad. Channel 231C2 can be substituted for Channel 247C2 at Globe, Arizona, consistent with the engineering requirements of the Commission's Rules, at coordinates of 33-17-37 NL and 110-50-09 WL, with a site restriction of 12.1 kilometers (7.5 miles) southwest of Globe. Channel 232C2 can be substituted for Channel 231C1 at Safford, Arizona, consistent with the engineering requirements of the Commission's Rules, at coordinates of 32-51-02 NL and 109-32-15 WL, with a site restriction of 16 kilometers (9.9 miles) east of Safford. Mexican concurrence was received on March 8, 2004, for the allotment of Channel 269C3 at Bagdad, Arizona, and the allotment of Channel 231C2 at Globe, Arizona, at the reference coordinates indicated. The allotment of Channel 232C2 at Safford, Arizona, is conditioned upon concurrence by Mexico, because the allotment is located within 320 kilometers (199 miles) of the Mexican border. See Supplementary Information.

DATES: Effective June 10, 2004.

FOR FURTHER INFORMATION CONTACT: Deborah Dupont, Media Bureau, (202) 418-2180.

SUPPLEMENTARY INFORMATION: This is a synopsis of the Commission's Report and Order, MB Docket No. 02-73, adopted April 12, 2004, and released April 14, 2004. The full text of this Commission decision is available for inspection and copying during normal business hours in the FCC Information Center, Portals II, 445 12th Street, SW., Room CY-A257, Washington, DC 20554. The complete text of this decision may also be purchased from the Commission's duplicating contractor, Qualex International, Portals II, 445 12th Street, SW., Room CY-B402, Washington, DC, 20554, (202) 863-2893, facsimile (202) 863-2898, or via e-mail qualexint@aol.com. The Audio Division granted Station KRXS-FM, Globe, Arizona a license to specify operation on Channel 247C2 in lieu of Channel 247C3, which is not reflected in the FM Table of Allotments. See BPH-20020515AAG.

List of Subjects in 47 CFR Part 73

Radio, Radio broadcasting.

Part 73 of title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Arizona, is amended by removing Channel 246C3 and adding Channel 269C3 at Bagdad, by adding Dewey-Humboldt, Channel 248C, by adding First Mesa, Channel 247C, by removing Channel 248C at Flagstaff, by removing Channel 247C3 and adding Channel 231C2 at Globe, by adding Grand Canyon Village, Channel 273C1, and by removing Channel 231C1 and adding Channel 232C2 at Safford.

Federal Communications Commission.
John A. Karousos,
Assistant Chief, Audio Division, Media Bureau.

[FR Doc. 04-11549 Filed 5-20-04; 8:45 am]

BILLING CODE 6712-01-P